DEPARTMENT OF HEALTH AND HUMAN SERVICES

National Institutes of Health

National Library of Medicine; Amended Notice of Meeting

Notice is hereby given of a change in the meeting of the Special Emphasis Panel, December 17, 2020, 10:00 a.m. to 5:30 p.m. This notice was published in the Federal Register on October 26, 2020, 85 FR 207, Page 67747.

This notice is being amended to change the date to December 22, 2020. The meeting is closed to the public.

Dated: November 2, 2020.
Ronald J. Livingston, Jr.,
Program Analyst, Office of Federal Advisory Committee Policy.

[FR Doc. 2020-24668 Filed 11-5-20; 8:45 am]

BILLING CODE 4140-01-P